DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 6/23/2011 Through 7/14/2011
Firm name | Address | Date accepted for investigation | Products
Apex Industries, Inc. | 3808 North Sullivan Road, Building 14, PO Box 15288, Spokane Valley, WA 99215 | 07/11/2011 | The firm manufactures computer enclosure parts using mainly cold-rolled steel, stainless steel and aluminum. It is a sheet metal fabrication and paint/powder coating company.
Dynalab Corp. | 350 Commerce Drive, Rochester, NY 14623 | 07/13/2011 | The firm is a master distributor that sells plastic laboratory supplies and equipment to the scientific, education and industrial markets.
Genesis Metal Corporation | 8255 Highway 16, Beggs, OK 74421-2892 | 07/13/2011 | The firm is a welding and fabrication company specializing in custom manufacturing of heat exchanger boilers, direct fired heaters, economizers and waste heat recovery.
Herbalix Restoratives, LLC | PO Box 65346, Port Ludlow, WA 98365 | 07/13/2011 | The firm manufactures natural body care products by distilling, heating, blending and forming all ingredients such as herbal essences, glycerin, and beeswax.
J.K. Adams Company, Inc. | 1430 Route 30, Dorset, VT 05251 | 07/11/2011 | The firm is a secondary processor for hardwood lumber and manufactures over 100 proprietary products. Kiln dried planks are formed into panels to be molded, shaped and routed.
J.M. McConkey & Co., Inc. | 1615 Puyallup Street, PO Box 1690, Sumner, WA 98390 | 07/11/2011 | The firm uses recycled polypropylene, PET, and styrene to create both injection molded and thermoformed containers and trays.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: July 14, 2011.
Sunni Massey,
Eligibility Certifier.

[FR Doc. 2011-18328 Filed 7-20-11; 8:45 am]

BILLING CODE 3510-WH-P